DEPARTMENT OF TRANSPORTATION

Federal Highway Administration

Notice to Rescind Notice of Intent to Prepare an Environmental Impact Statement: Polk County, IA

AGENCY: Federal Highway Administration (FHWA), Iowa Department of Transportation (Iowa DOT), and Polk County, DOT.

ACTION: Rescind Notice of Intent (NOI) to prepare and environmental impact statement.

SUMMARY: The FHWA, the Iowa DOT and Polk County are issuing this notice to rescind the NOI published on October 13, 2006 and to advise the public that studies for the environmental impact statement (EIS) will cease for the proposed transportation project in Polk County, Iowa.

FOR FURTHER INFORMATION CONTACT: Michael LaPietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1225; or Robert Rice, Director Public Works Department, Polk County, IA, 5885 NE 14th Street, Des Moines, IA 50313, Phone 515-286-3705.

SUPPLEMENTARY INFORMATION:

Electronic Access

An electronic copy of this document is available for free download from the Federal Bulletin Board (FBB). The FBB is a free electronic bulletin board service of the Superintendent of Documents, U.S. Government Publishing Office (GPO).

The FBB may be accessed in four ways: (1) Via telephone in dial-up mode or via the Internet through (2) telnet, (3) FTP, and (4) the World Wide Web. For dial-up mode a user needs a personal computer, modem, telecommunications software package, and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Standard Time (EST), Monday through Friday (except federal holidays) by calling the GPO Office of Electronic Information Dissemination Services at 202-512-1530, toll-free at 888-293-6498; sending an email to gpoaccess@gpo.gov; or sending a fax to 202-512-1262.

Access to this notice is also available to Internet users through the Federal Register's home page at http://www.nara.gov/fedreg.

Project Background

On October 13, 2006 the FHWA, in cooperation with the Iowa Department of Transportation (Iowa DOT) and Polk County will published an NOI to begin preparation of an EIS to evaluate potential transportation improvement alternatives for serving northwest Des Moines and its neighboring communities between IA 415/NW 26th Street and Euclid Avenue/M.L King Parkway in Des Moines, Iowa. The proposed project is being terminated due to significant and unavoidable impacts to Section 4(f) properties owned by the United Stated Army Corps of Engineers (USACE) and project funding.

To ensure that a full range of issues are addressed in relation to the proposed action and that significant issues are identified, interested parties are invited to submit comments and suggestions. Comments or questions concerning the proposed action and the EIS should be directed to the FHWA or Iowa Department of Transportation at the address provided on page one in the section titled FOR FURTHER INFORMATION CONTACT.

(Catalog of Federal Domestic Assistance Program Number 20.205, Highway Planning and Construction. The regulations implementing Executive Order 12372 regarding intergovernmental consultation on Federal programs and activities apply to this program.)

Authority: 23 U.S.C. 315; 49 CFR 1.48.

Dated: May 21, 2015.
Karen Bobo,
Division Administrator, FHWA, Iowa Division.

[FR Doc. 2015-12846 Filed 5-27-15; 8:45 am]

BILLING CODE 4910-22-P